DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Drug and Alcohol Services Information System (DASIS)—(OMB No. 0930-0106)—Revision

The request for OMB approval is a supplement to the full DASIS request approved on November 8, 2005, and is being submitted in accordance with the Terms of Clearance in that 2005 OMB Notice of Action. The supplemental submission requests extension and revision of DASIS, including approval to revise and conduct the National Survey of Substance Abuse Treatment Services (N-SSATS) following the pretest of the questionnaire changes. The request revises only the N-SSATS-related portion of the DASIS data collection. There are no changes to the other DASIS components.

The DASIS consists of three related data systems: The Inventory of Substance Abuse Treatment Services (I-SATS); the National Survey of Substance Abuse Treatment Services (N-SSATS), and the Treatment Episode Data Set (TEDS). The I-SATS includes all substance abuse treatment facilities known to SAMHSA. The N-SSATS is an annual survey of all substance abuse treatment facilities listed in the I-SATS. The TEDS is a compilation of client-level admission data and discharge data submitted by States on clients treated in facilities that receive State funds. Together, the three DASIS components provide information on the location, scope and characteristics of all known drug and alcohol treatment facilities in the United States, the number of persons in treatment, and the characteristics of clients receiving services at publicly-funded facilities. This information is needed to assess the nature and extent of these resources, to identify gaps in services, to provide a database for treatment referrals, and to assess demographic and substance-related trends in treatment.

The request for OMB approval includes changes to the N-SSATS survey and the Mini-N-SSATS. The Mini-N-SSATS is a procedure for collecting services data from newly identified facilities between main cycles of the N-SSATS survey and will be used to improve the listing of treatment facilities in the on-line treatment facility Locator. The request includes the following changes to the 2007 N-SSATS questionnaire, as refined by the pretest findings: modification of the treatment categories to incorporate terminology currently used in the substance abuse treatment field; modification of the detoxification question, including the addition of a follow-up question on whether the facility uses drugs in detoxification and for which substances; the addition of questions on clinical/therapeutic approaches; the addition of a question on quality control procedures used by the facility; the addition of a question on how many annual admissions to treatment were funded by Access to Recovery (ATR) vouchers; and, the addition of a question on whether the facility has a National Provider Identifier (NPI.) The request will also include changes to the Mini-N-SSATS questionnaire to modify the treatment categories to incorporate terminology currently used in the substance abuse treatment field. The remaining sections of the N-SSATS questionnaires will remain unchanged except for minor modifications to wording. The request for OMB approval will include a change in burden hours to include the full three years of N-SSATS and mini-N-SSATS data collection, now that the N-SSATS pretest has been completed. Also, the burden hours for the pretest are being dropped.

No significant changes are expected in the other DASIS activities.

The estimated annual burden for the DASIS activities is as follows [note—only the estimates for N-SSATS-related activities are changing]:

Type of respondent and activity | No. of respondents | Responses per respondent | Hours per response | Total burden hours
STATES:
TEDS Admission data | 52 | 4 | 6 | 1,248
TEDS Discharge data | 40 | 4 | 8 | 1,280
TEDS Discharge crosswalks | 5 | 1 | 10 | 50
I-SATS Update | 56 | 67 | .08 | 300
State Subtotal ¹ | 56 |  |  | 2,878
FACILITIES:
I-SATS update | 100 | 1 | .08 | 8
N-SSATS questionnaire | 17,000 | 1 | .67 | 11,390
Augmentation screener | 1,000 | 1 | .08 | 80
Mini-N-SSATS | 700 | 1 | .42 | 294
Facility Subtotal | 19,000 |  |  | 11,772
Total | 19,056 |  |  | 14,650
¹ The burden for the listed State activities is unchanged from the currently approved level. Only the burden for N-SSATS and Mini-N-SSATS is changing, and the burden for the N-SSATS pretest, which is now complete, has been removed.

Written comments and recommendations concerning the proposed information collection should be sent by September 11, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 7, 2006.
Anna Marsh,
Director, Office of Program Services.

[FR Doc. E6-13133 Filed 8-10-06; 8:45 am]

BILLING CODE 4162-20-P